DEPARTMENT OF ENERGY

Federal Energy Regulatory Commission

[Project No. 2192-022-WI]

Consolidated Water Power Company; Notice of Availability of Final Environmental Assessment

March 20, 2007.

In accordance with the National Environmental Policy Act of 1969 and the Federal Energy Regulatory Commission's (Commission) regulations, 18 CFR part 380 (Order No. 486, 52 FR 47897), the Office of Energy Projects has reviewed an application for a transfer of project lands and acquisition of lands at the Biron Project (FERC No. 2192), and has prepared a final environmental assessment (FEA) for the proposal. The proposed transfer of project lands and acquisition of lands would occur on the Biron reservoir in Wood County, Wisconsin.

In the application, Consolidated Water Power (licensee) requests Commission authorization to exchange approximately 3.14 acres of licensee-owned lands with 3,000 linear feet of shoreline along the Biron flowage, for three different parcels of land totaling approximately 205.213 total acres. The first parcel has 830 linear feet of river shoreline and consists of 47.546 acres. The second parcel has 126 linear feet of river shoreline and consists of 2.960 acres, abutting an existing licensee-owned boat launch. The third parcel consists of islands in the river, peninsulas, and a roadside access totaling 154.84 acres (48.82 acres above water). These island perimeters, peninsulas, and the roadside access total 33,749 linear feet of waterfront. All lands are currently within the project boundary, and the licensee intends to retain flowage rights over any conveyed lands, and to retain all lands within the project boundary. The FEA contains the Commission staff's analysis of the probable environmental impacts of the proposed land conveyances and exchanges.

The FEA is attached to a Commission order titled “Order Amending License to Authorize Land Exchange,” which was issued November 17, 2006, and is available for review and reproduction at the Commission's Public Reference Room, located at 888 First St., NE., Room 2A, Washington, DC 20426. The FEA may also be viewed on the Commission's Web site at http://www.ferc.gov using the “elibrary” link. Enter the docket number (prefaced by P- and excluding the last three digits) into the docket number field to access the document. For assistance, contact FERC Online Support at FERCOnlineSupport@ferc.gov or toll-free at (866) 208-3676, or for TTY, contact (202) 502-8659.

Philis J. Posey,
Acting Secretary.

[FR Doc. E7-5459 Filed 3-23-07; 8:45 am]

BILLING CODE 6717-01-P